DEPARTMENT OF ENERGY

Federal Energy Regulatory Commission

[Docket Nos. CP98-150-006, −007, and −008; Docket Nos. CP98-151-003, −004 and CP05-19-000; Docket Nos. CP06-5-000, CP06-6-000, and CP06-7-000; Docket No. CP06-76-000; Docket No. CP02-31-002]

Millennium Pipeline L.L.C.; Columbia Gas Transmission Corporation; Empire State Pipeline and Empire Pipeline, Inc.; Algonquin Gas Transmission System; Iroquois Gas Transmission System; Notice of Availability of the Final Supplemental Environmental Impact Statement for the Proposed Northeast-07 Project

October 13, 2006.

The staff of the Federal Energy Regulatory Commission (FERC or Commission) has prepared a Final Supplemental Environmental Impact Statement (FSEIS) on the natural gas pipeline facilities proposed for the Northeast (NE)-07 Project in Genesee, Ontario, Yates, Schuyler, Steuben, Chemung, Tioga, Broome, Delaware, Orange, Rockland, Putnam, and Dutchess Counties, New York; Morris County, New Jersey; and Fairfield and New Haven Counties, Connecticut, proposed by Millennium Pipeline L.L.C. (Millennium), Columbia Gas Transmission Corporation (Columbia), Empire State Pipeline and Empire Pipeline, Inc. (collectively referred to as Empire), Algonquin Gas Transmission System (Algonquin), and Iroquois Gas Transmission System (Iroquois) in the above-referenced dockets.

The FSEIS was prepared to satisfy the requirements of the National Environmental Policy Act (NEPA). The staff concludes that approval of the proposed project with appropriate mitigating measures as recommended, would have limited adverse environmental impact. The FSEIS also evaluates alternatives to the proposal, including system alternatives, alternative sites for compressor stations, and pipeline alternatives.

The FSEIS addresses the potential environmental effects of the construction and operation of the following natural gas pipeline facilities:

Millennium Pipeline Project—Phase I

• Construction of about 181.7 miles of 30-inch-diameter pipeline from Corning, New York, to Ramapo, New York, (from milepost [MP] 190.6 to MP 376.6), with four proposed route modifications within this area;

• Acquisition from Columbia and continued use of about 7.1 miles of 24-inch-diameter Line A-5 pipeline from MP 340.5 to MP 347.7;

• Construction of the new Corning Compressor Station and measuring and regulating (M&R) facilities at MP 190.6;

• Installation of upgrades to the Ramapo M&R station in Ramapo, Rockland County, New York; and

• Construction of the Wagoner M&R station in Deer Park, Orange County, New York, at MP 337.9.

Columbia would abandon certain facilities related to the Millennium Pipeline Project—Phase I. Columbia proposes the following:

• Abandonment in place of about 4.5 miles of 10-inch-, 82.2 miles of 12-inch-, 0.2 mile of 16-inch-, and 2.5 miles of 20-inch-diameter pipeline in Steuben, Chemung, Tioga, Broome, Orange, and Delaware Counties, New York, designated as Line A-5;

• Abandonment by removal (Millennium would remove Columbia's pipeline when it installs its pipeline via same ditch replacement) of about 55.5 miles of 12-inch-, 16.6 miles of 10-inch-, and 8.8 miles of 8-inch-diameter pipeline in Delaware, Sullivan, Orange, and Rockland Counties, New York, designated as Line A-5, and of the Walton Deposit M&R station at MP 276.1 in Delaware County (Millennium would relocate this facility at the landowner's request and to move it closer to Line A-5);

• Abandonment by conveyance to Millennium of:

○ About 3.1 miles of 10- and 12-inch-diameter pipeline in Steuben County, New York, designated as Line 10325;

○ About 0.4 mile of 10-inch-diameter pipeline in Broome County, New York, designated as Line 10356;

○ About 52.5 miles of 10-, 12-, and 24-inch-diameter pipeline in Steuben, Chemung, Broome, and Orange Counties, New York, designated as Line A-5;

○ About 2.6 miles of 6-inch-diameter pipeline in Tioga County, New York, designated as Line AD-31;

○ About 0.1 mile of 12-inch-diameter pipeline in Broome County, New, York, designated as Line N;

○ About 6.7 miles of 24-inch-diameter pipeline in Rockland County, New York, designated as Line 10338;

○ The following M&R stations in New York:

—Corning Natural Gas, MP 180.4, Steuben County;

—Cooper Planes, MP 182.1, Steuben County;

—M Account, MP 187.5, Steuben County;

—Corning Glass, MP 188.4, Steuben County;

—Spencer, MP 217.3, Tioga County;

—Catatonk, MP 228.2, Tioga County;

—Owego, MP 231.5, Tioga County;

—Union Center, MP 240.2, Broome County;

—Endicott, MP 241.7, Broome County,

—Westover, MP 245.7, Broome County;

—Willis Road, MP 248.1, Broome County;

—Port Dickinson, MP 250.8, Broome County;

—Kirkwood, MP 253.8, Broome County;

—Hancock, MP 285.6, Delaware County;

—Hartwood Club, MP 332.1, Sullivan County;

—Middletown, MP 347.7, Orange County;

—Huguenot, MP 3440.5, Orange County;

—Warwick, MP 359.3, Orange County;

—Greenwood Lake, MP 364.2, Orange County;

—Central Hudson/Tuxedo, MP367.9, Orange County;

—Sloatsburg, MP 373.3, Rockland County;

—Ramapo, MP 376.4, Rockland County; and

—Buena Vista, MP 383.3, Rockland County.

Millennium would replace the facilities Columbia would abandon in place or by removal with its proposed project facilities, or it would continue to use those it would acquire by conveyance.

Millennium proposes to construct Columbia's Line A-5 Replacement Project as part of the Phase I Project.

Columbia Line A-5 Replacement Project

• Replacement of 8.8 miles of 8- and 16-inch-diameter segments of Columbia's existing Line A-5 pipeline with larger 30-inch-diameter pipeline in Orange and Rockland Counties, New York;

• Modification of three existing M&R stations (the Tuxedo, Sloatsburg, and Ramapo M&R stations) on this segment of Line A-5 to accommodate the larger diameter pipeline; and

• Abandonment in place of about 1.0 mile of the existing Line A-5 pipeline.

Empire Connector Project

• Construction of about 78 miles of new 24-inch-diameter pipeline and associated facilities in Ontario, Yates, Schuyler, Chemung, and Steuben Counties, New York; and

• Construction of a new compressor station in Genesee County, New York.

Algonquin Ramapo Expansion Project

• Replacement about 4.9 miles of existing 26-inch-diameter pipeline with 42-inch-diameter pipeline in Rockland County, New York;

• Construction of miscellaneous pipeline modifications and meter station modifications at several locations in Rockland County, New York, and Fairfield County, Connecticut;

• Modifications to three existing compressor stations in Rockland and Putnam Counties, New York, and Morris County, New Jersey; and

• Construction of one new natural gas compressor station in New Haven County, Connecticut.

Iroquois MarketAccess Project

• Reduction of the proposed size of the compressor to be constructed in the Town of Brookfield, Connecticut, from 10,000 hp to 7,700 hp;

• Installation of natural gas cooling and related facilities at the Brookfield Compressor Station; and

• Installation of gas cooling and related facilities at Iroquois' existing compressor station in Town of Dover, Dutchess County, New York.

The FSEIS has been placed in the public files of the FERC and is available for distribution and public inspection at: Federal Energy Regulatory Commission, Public Reference Room, 888 First Street, NE., Room 2A, Washington, DC 20426. (202) 502-8371.

A limited number of copies are available from the Public Reference Room identified above. In addition, copies of the FSEIS have been mailed to federal, state, and local agencies; public interest groups; individuals and affected landowners who requested a copy of the FSEIS; libraries; newspapers; and parties to this proceeding.

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance with eLibrary, the eLibrary helpline can be reached toll free at 1-866-208-3676, for TTY at (202) 502-8659, or at FERCOnlineSupport@ferc.gov. The eLibrary link on the FERC Internet Web site also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to the eSubscription link on the FERC Internet Web site.

Magalie R. Salas,
Secretary.

[FR Doc. E6-17473 Filed 10-18-06; 8:45 am]

BILLING CODE 6717-01-P